ENVIRONMENTAL PROTECTION AGENCY

40 CFR Part 302

[SW H-FRL-7241-7]

RIN 2050-AE88

Correction of Typographical Errors and Removal of Obsolete Language in Regulations on Reportable Quantities

AGENCY: Environmental Protection Agency (EPA).

ACTION: Proposed rule.

SUMMARY: The Environmental Protection Agency (EPA) proposes to correct errors and remove obsolete or redundant language in regulations regarding notification requirements for releases of hazardous substances under the Comprehensive Environmental Response, Compensation and Liability Act (CERCLA). EPA has reviewed the CERCLA release reporting regulations and has identified several categories of errors, including: typographical errors in the table of CERCLA hazardous substances; definitions made legally obsolete because of changes in CERCLA's statutory provisions; and redundant or unnecessary information that could be removed from the regulations to simplify these regulations and reduce potential confusion.

In the Rules and Regulations section of today's Federal Register, EPA is approving this action as a direct final rule without a prior proposal because EPA views this action as noncontroversial and anticipates no adverse comments. A detailed rationale for the approval of this action is set forth in the direct final rule. If no adverse comments are received in response to the direct final rule, no further activity is anticipated in relation to this rule. If EPA receives adverse written comments on one or more distinct amendments, paragraphs, or sections of the direct final rule, EPA will withdraw the distinct amendments, paragraphs, or sections for which the adverse comment was received by publishing a timely withdrawal in the Federal Register. All adverse public comments received will be addressed in a subsequent final rule based on this proposed rule. EPA will not institute a second comment period on this action. Any parties interested in commenting on this action should do so at this time.

DATES: Written comments must be received before or on August 8, 2002.

ADDRESSES: Comments: Interested parties may submit an original and two copies of comments referencing docket number 102RQ-CORRECT to (1) if using regular U.S. Postal Service mail: Docket Coordinator, Superfund Docket Office, (Mail Code 5201G), U.S. Environmental Protection Agency Headquarters, Ariel Rios Building, 1200 Pennsylvania Avenue, NW., Washington, DC 20460; or (2) if using special delivery such as overnight express service: Superfund Docket Office, Crystal Gateway One, 1st Floor, 1235 Jefferson Davis Highway, Arlington, VA 22202.

It would also be helpful, although not mandatory, to include an electronic copy of your comments by diskette or Internet e-mail. For more information, see the “Electronic Submission of Comments” portion of the SUPPLEMENTARY INFORMATION section of EPA's direct final rule published in today's Federal Register.

Docket: Copies of public comments and other materials supporting EPA's decision to correct typographical errors and remove obsolete language from 40 CFR Part 302 may be examined at the U.S. EPA Superfund Docket Office, Crystal Gateway One, 1235 Jefferson Davis Highway, First Floor, Arlington, Virginia 22202 [Docket Number 102RQ-CORRECT]. Docket hours are 9 a.m. to 4 p.m., Monday through Friday, excluding Federal holidays. Please call (703) 603-9232 for an appointment. You may copy a maximum of 100 pages from any regulatory docket at no charge; additional copies cost 15 cents per page. The Docket Office will mail copies of materials to you if you are located outside the Washington, DC metropolitan area.

FOR FURTHER INFORMATION: Contact Ms. Lynn Beasley of the Office of Emergency and Remedial Response (5204G), U.S. EPA, Ariel Rios Building, 1200 Pennsylvania Avenue, NW., Washington, DC 20460, by phone at (703) 603-9086, or by e-mail at beasley.lynn@epa.gov.

Dated: June 28, 2002.
Christine Todd Whitman,
Administrator.

[FR Doc. 02-16873 Filed 7-8-02; 8:45 am]

BILLING CODE 6560-50-P